DEPARTMENT OF VETERANS AFFAIRS

Biomedical Laboratory Research and Development Service, Special Emphasis Panel—Gulf War Veterans' Illnesses Biorepository, Notice of Meeting

The Department of Veterans Affairs (VA) gives notice under the Federal Advisory Committee Act, 5 U.S.C. App., that the Special Emphasis Panel—Gulf War Veterans' Illnesses Biorepository will meet on November 4, 2014, from 9:00 a.m. until 3:30 p.m. at the AAAE Conference Center, 601 Madison Street, Suite 400, Alexandria, VA. The panel meeting will be open to the public for approximately one-half hour at the start of the meeting to discuss the general status of the project. The remaining portion of the meeting will be closed to the public for the review, discussion, and evaluation of the research project to be performed for VA. The closed portion of the meeting involves discussion, examination, reference to staff and consultant critiques of the research proposal. As provided by subsection 10(d) of Public Law 92-463, as amended, closing portions of a panel meeting is in accordance with 5 U.S.C. 552b(c)(6) and (9)(B).

The purpose of this Special Emphasis Panel is to review the Veterans Affairs Gulf War Veterans' Illnesses Biorepository for its continued funding. The Gulf War Veterans' Illnesses Biorepository is a project of high programmatic importance to VA. The Special Emphasis Panel will review activities related to the Gulf War Veterans' Illnesses Biorepository including the significance of the biorepository, along with some other key areas such as innovation, environment, feasibility, and protection of human subjects.

No time will be allocated at this meeting for receiving oral presentations from the public. Those who plan to attend or would like to obtain a copy of minutes of the panel meeting and roster of the participants of the panel should contact Dr. Victor Kalasinsky, Designated Federal Officer, Department of Veterans Affairs, 810 Vermont Avenue NW., Washington, DC, or by email at victor.kalasinsky@va.gov. Any member of the public wishing to attend the meeting or seeking additional information should contact Dr. Kalasinsky at (202) 443-5682.

Dated: September 24, 2014.
Rebecca Schiller,
Committee Management Officer.

[FR Doc. 2014-23160 Filed 9-26-14; 8:45 am]

BILLING CODE P